INTERNATIONAL TRADE COMMISSION

[USITC SE-17-008]

Government in the Sunshine Act Meeting Notice

AGENCY HOLDING THE MEETING: United States International Trade Commission.

TIME AND DATE: March 10, 2017 at 11:00 a.m.

PLACE: Room 101, 500 E Street SW., Washington, DC 20436, Telephone: (202) 205-2000.

STATUS: Open to the public.

MATTERS TO BE CONSIDERED:

1. Agendas for future meetings: None

2. Minutes

3. Ratification List

4. Vote in Inv. Nos. 701-TA-475 and 731-TA-1177 (Review) (Certain Aluminum Extrusions from China). The Commission is currently scheduled to complete and file its determinations and views of the Commission by March 27, 2017.

5. Outstanding action jackets: None

In accordance with Commission policy, subject matter listed above, not disposed of at the scheduled meeting, may be carried over to the agenda of the following meeting.

By order of the Commission.
Issued: March 3, 2017.
William R. Bishop,
Supervisory Hearings and Information Officer.

[FR Doc. 2017-04610 Filed 3-6-17; 11:15 am]

BILLING CODE 7020-02-P